ENVIRONMENTAL PROTECTION AGENCY

[ER-FRL-6640-7]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 1, 2003 (68 FR 16511).

Draft EISs

ERP No. D-BLM-G80002-00 Rating EC2, New Mexico Products Pipeline (NMPP) Project, Refined Petroleum Products Pipeline System Construction and Operation, Right-of-Way Grants, Odessa, TX to Bloomfield, NM.

Summary: EPA expressed environmental concerns with the lack of information on mitigation and reducing environmental impacts from pipeline construction, disclosure of information comparing the alternatives, discussion on increased risks of a new pipeline and relative risks of safety and explosion and spills, and details for permitting requirements.

ERP No. D-BLM-J65374-WY Rating EC2, Snake River Resource Management Plan, BLM-Administrated Public Land and Resources Allocation and Management, Snake River, Jackson Hole, Teton County, WY.

Summary: EPA expressed environmental concerns that the preferred alternative will not adequately manage land use on a watershed basis, implement restoration and improve the riparian function and hibitat diversity of the Snake River. EPA recommends considering ways to reduce mixed ownership and develop partnership strategies such as a corridor-wide management plan to restore the river to its properly functioning condition.

ERP No. DB-AFS-J65287-UT Rating EC2, Long Deer Vegetation Management Project, South Spruce Ecosystem Rehabilitation Project, Implementation, Dixie National Forest, Cedar City Ranger District, Iron and Kane Counties, UT.

Summary: EPA expressed environmental concerns with potential adverse impacts to aquatic resources and contiguous terrestrial habitat from harvest activities and road closures in the project area. The DSEIS should include additional detailed information regarding adaptive management, alternatives, ecosystem characterization and fuel loading, roads and habitat fragmentation.

Final EISs

ERP No. F-AFS-K65246-AZ, Flagstaff/Lake Mary Ecosystem Analyses Area, Amendment to the Coconino National Forest Plan, Implementation, Coconino National Forest, Peaks and Mormon Lake Ranger Districts, Coconino County, AZ.

Summary: No formal comment letter was sent to the preparing agency.

ERP No. F-FHW-F40346-MI, US 31 Petoskey Area Improvement Study, Congestion Reduction on U.S. 31 in the City of Petoskey and Townships of Resort and Bear Creek, Funding and US Army COE Section 404 Permit Issuance, Emmet County, MI.

Summary: EPA's previous environmental concerns regarding the ability of build alternatives to meet study goals, their impacts to wetlands, and the potential for land use changes have been addressed by the selection of the No Build Alternative. EPA has no remaining concerns.

ERP No. F-NPS-K65080-AZ, Sunset Crater Volcano National Monument General Management Plan, Implementation, Flagstaff Area, Coconino County, AZ.

Summary: No formal comment letter was sent to the preparing agency.

ERP No. F-NPS-K65081-AZ, Wupatki National Monument General Management Plan, Implementation, Flagstaff Area, Coconino County, AZ.

Summary: No formal comment letter was sent to the preparing agency.

ERP No. FS-NPS-K61121-NV, Great Basin National Park General Management Plan Amendment, Visitor Learning Center Construction on an 80-acre Parcel of Land north of the Town of Baker, White Pine County, NV.

Summary: No formal comment letter was sent to the preparing agency.

Dated: May 27, 2003.
Joseph C. Montgomery,
Director, NEPA Compliance Division, Office of Federal Activities.

[FR Doc. 03-13552 Filed 5-29-03; 8:45 am]

BILLING CODE 6560-50-P